DEPARTMENT OF ENERGY

Federal Energy Regulatory Commission

[Project No. 516-417]

South Carolina Electric & Gas Company; Notice of Availability of Draft Environmental Assessment

March 23, 2006.

A draft environmental assessment (EA) is available for public review. The draft EA analyzes the environmental impacts of an application for non-project use of project lands and waters filed for the Saluda Project. The project is located on Lake Murray in Lexington County, South Carolina.

The draft EA was written by staff in the Office of Energy Projects, Federal Energy Regulatory Commission, and is available for review at the Commission or may be viewed on the Commission's Web site at http://www.ferc.gov using the “eLibrary” link. Enter the docket number excluding the last three digits in the docket number field to access documents. For assistance, contact FERC Online Support at FERCOnlineSupport@ferc.gov or toll-free at 1-866-208-3676, or for TTY, (202) 502-8659.

Anyone may file comments on the draft EA. The public as well as federal and state resource agencies are encouraged to provide comments. All written comments must be filed within 30 days of the issuance date of this notice shown above. Send an original and eight copies of all comments marked with the project number, P-516-417, to: The Secretary, Federal Energy Regulatory Commission, 888 First Street, NE., Washington, DC 20426. Comments, protests and interventions may be filed electronically via the Internet in lieu of paper; see 18 CFR 385.2001(a)(1)(iii) and the instructions on the Commission's Web site under the “e-Filing” link. The Commission strongly encourages electronic filings.

If you have any questions regarding this notice, please call Shana High at (202) 502-8674.

Magalie R. Salas,
Secretary.

[FR Doc. E6-4588 Filed 3-29-06; 8:45 am]

BILLING CODE 6717-01-P